DEPARTMENT OF AGRICULTURE

Food and Nutrition Service

Agency Information Collection Activities: Proposed Collection; Comments Request—Evaluation of the School Meal Data Collection Process

AGENCY: Food and Nutrition Service (FNS), USDA.

ACTION: Notice.

SUMMARY: In accordance with the Paperwork Reduction Act of 1995, this notice invites the general public and other public agencies to comment on this proposed information collection. This collection is a new collection. The primary purpose of this study is to provide FNS with a description and evaluation of the methodologies and processes used to collect and report program data via the FNS-10, FNS-742, and FNS-834 forms.

DATES: Written comments must be received on or before March 6, 2017.

ADDRESSES: Comments may be sent to: Jinee Burdg, MPP, RDN, LDN, Food and Nutrition Service, U.S. Department of Agriculture, 3101 Park Center Drive, Alexandria, VA 22302. Comments may also be submitted via fax to the attention of Jinee Burdg at 703-305-2744 or via email to Jinee.Burdg@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Alexandria, Virginia 22302.

All responses to this notice will be summarized and included in the request for Office of Management and Budget approval. All comments will be a matter of public record.

FOR FURTHER INFORMATION CONTACT: Requests for additional information or copies of this information collection should be directed to Jinee Burdg at 703-305-2744.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Evaluation of the School Meal Data Collection Process.

Form Number: Not applicable.

OMB Number: Not yet Assigned.

Expiration Date: Not yet Determined.

Type of Request: New collection.

Abstract

USDA's Food and Nutrition Service (FNS) administers the National School Lunch Program (NSLP) and School Breakfast Program (SBP) at the Federal level. At the State level, State agencies, typically State Departments of Education or Agriculture, operate the program through agreements with Local Education Agencies (LEAs). Federal law, regulations, and policies determine eligibility for meal benefits. Based on federal regulations at 7 CFR part 210, LEAs have the legal authority to operate the NSLP and SBP as well as to certify and verify student eligibility for free and reduced-price meal benefits. Section 9 of the Richard B. Russell National School Lunch Act (42 U.S.C. 1758) and regulations at 7 CFR part 245 provide the requirements related to determining free and reduced-price meal eligibility including certification and verification requirements and procedures.

FNS administers and provides directives for these school meal programs but most of the reporting and data collection originates at schools or sites, flows up to school food authorities (SFAs), then to State agencies, and ultimately to FNS. Some of the key forms FNS uses to collect data on the NSLP and SBP are the FNS-10, Report of School Operations; the FNS-742, SFA Verification Collection Report; and the FNS-834, State Agency Direct Certification Rate Data Element Report.

FNS is conducting a study, the Evaluation of the School Meal Data Collection Process, to provide a description and evaluation of the methodologies and processes used to collect and report program data for the school meal programs via the FNS-10, FNS-742, and FNS-834 forms. The key research objectives relate to assessing how schools/sites, SFAs, and State agencies handle the following three functions: Collect/aggregate data, process or validate data, and transmit data about the school meal programs. The ultimate objective is to understand the likely sources of error within each of these functions at each reporting level.

The study approach includes analysis of administrative data and site visits to conduct case studies. Using on-site interviews and observations in 4 States, 40 SFAs and 120 schools that are selected purposively, the study will describe and assess the data collection/aggregation, validation, and transmittal processes used to complete the FNS-10, FNS-742, and FNS-834, and to describe the likely sources of error for each of these processes—from schools/sites, to SFAs, to States, and ultimately delivery to FNS regional offices via the FNS Food Program Reporting System (FPRS).

Affected Public: State, Local or Tribal government (20 respondents and 0 non-respondents); and Business-for-profit/not-for-profit (167; 160 respondents and 7 non-respondents).There are approximately 7 non-respondents who will be contacted but choose not to participate. The burden for all respondents is broken down in the table below.

Type of Respondents: State Child Nutrition (CN) Agency Directors and key staff; State Supplemental Nutrition Assistance Program (SNAP) Agency Directors; SFA Directors and School Cafeteria Managers.

Estimated Number of Respondents: The total estimated number of respondents is 187. This includes: 4 State Child Nutrition Agency Directors, 12 Child Nutrition Agency key staff involved in reporting, 4 State SNAP Directors, 40 SFA Directors, 120 School Cafeteria Managers, and 7 non-respondents.

Estimated Frequency of Response: The estimated frequency of response is 3.36 annually for respondents and 2.00 annually for non-respondents. Including respondents and non-respondents, the overall frequency for the entire collection is 3.30 annually.

Estimated Total Annual Responses: The total estimated number of responses for data collection is 618. This includes 604 for respondents and 14 for non-respondents.

Estimated Time per Respondent: The estimated time of response varies from 10 minutes to 1 hour and 30 minutes, depending on the respondent group. The recruitment (electronic study notification letter) for each respondent type will take 10 minutes (0.167 hours) and scheduling interviews for each respondent type will also take 10 minutes (0.167 hours). The in-depth interview for State SNAP Agency Directors, State Child Nutrition Directors and State Child Nutrition key staff will take 60 minutes (1.00 hours). The in-depth interview for SFA Directors and School Cafeteria Managers will take 90 minutes (1.5 hours). In-depth interview follow up will take 10 minutes (0.167 hours) among State Child Nutrition Directors, State Child Nutrition key staff, State SNAP Agency Directors and School Food Authority Directors. The average estimated time across all respondents is 0.54.

Estimated Total Annual Burden on Respondents: The total public reporting burden for this collection of information is estimated at 333.1 hours (annually). The estimated burden for each type of respondent is provided in the table below.

Dated: December 23, 2016.
Richard Lucas,
Acting Administrator, Food and Nutrition Service.

[FR Doc. 2016-31953 Filed 1-4-17; 8:45 am]

BILLING CODE 3410-30-P